DEPARTMENT OF ENERGY

Federal Energy Regulatory Commission

Combined Notice of Filings #1

Take notice that the Commission received the following electric rate filings:

Docket Numbers: ER10-2480-004.

Applicants: Berkshire Power Company, LLC.

Description: Compliance Filing for Rate Schedule to be effective 7/25/2014.

Filed Date: 7/24/14.

Accession Number: 20140724-5086.

Comments Due: 5 p.m. ET 8/14/14.

Docket Numbers: ER10-3193-005.

Applicants: Brooklyn Navy Yard Cogeneration Partners.

Description: Compliance Filing for Rate Schedule to be effective 7/25/2014.

Filed Date: 7/24/14.

Accession Number: 20140724-5073.

Comments Due: 5 p.m. ET 8/14/14.

Docket Numbers: ER14-2486-000.

Applicants: Covanta Union, LLC.

Description: Notice of Succession to be effective 7/24/2014.

Filed Date: 7/23/14.

Accession Number: 20140723-5126.

Comments Due: 5 p.m. ET 8/13/14.

Docket Numbers: ER14-2487-000.

Applicants: Midcontinent Independent System Operator, Inc.

Description: 2014-07-24_SA 762 ATC-Dominion Termination to be effective 7/16/2014.

Filed Date: 7/24/14.

Accession Number: 20140724-5039.

Comments Due: 5 p.m. ET 8/14/14.

Docket Numbers: ER14-2488-000.

Applicants: Midcontinent Independent System Operator, Inc.

Description: 2014-07-24_SA 2680 NSP-Border Winds Energy GIA (J290) to be effective 7/25/2014.

Filed Date: 7/24/14.

Accession Number: 20140724-5066.

Comments Due: 5 p.m. ET 8/14/14.

Docket Numbers: ER14-2489-000.

Applicants: PJM Interconnection, L.L.C.

Description: Queue Position T174; Original Service Agreement No. 3903 to be effective 6/24/2014.

Filed Date: 7/24/14.

Accession Number: 20140724-5070.

Comments Due: 5 p.m. ET 8/14/14.

Docket Numbers: ER14-2490-000.

Applicants: PJM Interconnection, L.L.C.

Description: Service Agreement No. 3333; Queue No. W3-003 to be effective 6/24/2014.

Filed Date: 7/24/14.

Accession Number: 20140724-5071.

Comments Due: 5 p.m. ET 8/14/14.

Docket Numbers: ER14-2491-000.

Applicants: PJM Interconnection, L.L.C.

Description: Service Agreement No. 3186; Queue No. W4-072 to be effective 6/24/2014.

Filed Date: 7/24/14.

Accession Number: 20140724-5074.

Comments Due: 5 p.m. ET 8/14/14.

Docket Numbers: ER14-2492-000.

Applicants: PacifiCorp.

Description: USBR-WAPA Weber Basin Project Agreement Rev 4 to be effective 9/23/2014.

Filed Date: 7/24/14.

Accession Number: 20140724-5077.

Comments Due: 5 p.m. ET 8/14/14.

Docket Numbers: ER14-2493-000.

Applicants: New England Power Company.

Description: New England Power Co. Filing of 6th Rev. Service Agmt. 23 with Narragansett to be effective 9/23/2014.

Filed Date: 7/24/14.

Accession Number: 20140724-5081.

Comments Due: 5 p.m. ET 8/14/14.

Docket Numbers: ER14-2494-000.

Applicants: PJM Interconnection, L.L.C.

Description: Queue Position # Z1-086 Service Agreement No. 3886 to be effective 6/24/2014.

Filed Date: 7/24/14.

Accession Number: 20140724-5084.

Comments Due: 5 p.m. ET 8/14/14.

Docket Numbers: ER14-2495-000.

Applicants: PJM Interconnection, L.L.C.

Description: PJM Interconnection, L.L.C. submits tariff filing per 35.13(a)(2)(iii: Service Agreement No. 3354; Queue No. X2-054 to be effective 6/24/2014.

Filed Date: 7/24/14.

Accession Number: 20140724-5088.

Comments Due: 5 p.m. ET 8/14/14.

Docket Numbers: ER14-2496-000.

Applicants: New England Power Company.

Description: New England Power Filing of LGIA with Deepwater Block Island Wind, LLC to be effective 9/23/2014.

Filed Date: 7/24/14.

Accession Number: 20140724-5089.

Comments Due: 5 p.m. ET 8/14/14.

Docket Numbers: ER14-2497-000.

Applicants: Idaho Power Company.

Description: Idaho Power Company submits tariff filing per 35: OATT Order No. 792 Compliance Filing to be effective 12/31/9998.

Filed Date: 7/24/14.

Accession Number: 20140724-5096.

Comments Due: 5 p.m. ET 8/14/14.

Take notice that the Commission received the following electric reliability filings:

Docket Numbers: RR13-9-003.

Applicants: North American Electric Reliability Corp.

Description: Petition of the North American Electric Reliability Corporation for Approval of a Supplemental Assessment to Fund the 2014 Budget of Peak Reliability, Inc.

Filed Date: 7/23/14.

Accession Number: 20140723-5121.

Comments Due: 5 p.m. ET 8/22/14.

Docket Numbers: RR14-5-000.

Applicants: North American Electric Reliability Corp.

Description: North American Electric Reliability Corporation Five-Year Electric Reliability Organization (ERO) Performance Assessment Report, submitted in accordance with 18 CFR § 39.3(c).

Filed Date: 7/21/14.

Accession Number: 20140721-5166.

Comments Due: 5 p.m. ET 8/20/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2014. .
Nathaniel J. Davis, Sr.,
Deputy Secretary.

[FR Doc. 2014-18139 Filed 7-31-14; 8:45 am]

BILLING CODE 6717-01-P